DEPARTMENT OF ENERGY

Federal Energy Regulatory Commission

Combined Notice of Filings #1

Take notice that the Commission received the following electric rate filings:

Docket Numbers: ER18-125-001.

Applicants: NextEra Energy Transmission New York, Inc.

Description: Tariff Amendment: NextEra Energy Transmission New York, Inc. Response to Deficiency Letter to be effective 12/19/2017.

Filed Date: 1/2/18.

Accession Number: 20180102-5365.

Comments Due: 5 p.m. ET 1/23/18.

Docket Numbers: ER18-387-003.

Applicants: ISO New England Inc., Emera Maine.

Description: Tariff Amendment: Supplemental Filing Related to Original Service Agreement under Schedule 21-EM to be effective 1/1/2016.

Filed Date: 1/3/18.

Accession Number: 20180103-5050.

Comments Due: 5 p.m. ET 1/24/18.

Docket Numbers: ER18-579-001.

Applicants: PJM Interconnection, L.L.C.

Description: Tariff Amendment: Supplement Filing to 2018 Annual Cost Allocation Update—Docket No. ER18-579 to be effective 1/1/2018.

Filed Date: 1/3/18.

Accession Number: 20180103-5110.

Comments Due: 5 p.m. ET 1/24/18.

Docket Numbers: ER18-588-000.

Applicants: NextEra Energy Transmission West, LLC.

Description: § 205(d) Rate Filing: NextEra Energy Transmission West, LLC Amendments to Transmission Owner Tariff to be effective 1/28/2018.

Filed Date: 1/2/18.

Accession Number: 20180102-5357.

Comments Due: 5 p.m. ET 1/23/18.

Docket Numbers: ER18-589-000.

Applicants: Public Service Company of New Mexico.

Description: § 205(d) Rate Filing: Modifications to NITSA/NOA between PNM and Los Alamos to be effective 1/1/2018.

Filed Date: 1/2/18.

Accession Number: 20180102-5369.

Comments Due: 5 p.m. ET 1/23/18.

Docket Numbers: ER18-590-000.

Applicants: Southwest Power Pool, Inc.

Description: § 205(d) Rate Filing: 3125R5 Basin Electric Power Cooperative NITSA and NOA to be effective 12/1/2017.

Filed Date: 1/2/18.

Accession Number: 20180102-5391.

Comments Due: 5 p.m. ET 1/23/18.

Docket Numbers: ER18-591-000.

Applicants: Southwest Power Pool, Inc.

Description: § 205(d) Rate Filing: 2415R9 Kansas Municipal Energy Agency NITSA and NOA to be effective 12/1/2017.

Filed Date: 1/2/18.

Accession Number: 20180102-5398.

Comments Due: 5 p.m. ET 1/23/18.

Docket Numbers: ER18-592-000.

Applicants: Southwest Power Pool, Inc.

Description: § 205(d) Rate Filing: Attachment J Section III Clean-Up Filing to be effective 10/1/2017.

Filed Date: 1/3/18.

Accession Number: 20180103-5073.

Comments Due: 5 p.m. ET 1/24/18.

Docket Numbers: ER18-593-000.

Applicants: PacifiCorp.

Description: § 205(d) Rate Filing: BPA Construction Agmt ? UIUC Winchester to be effective 12/15/2017.

Filed Date: 1/3/18.

Accession Number: 20180103-5090.

Comments Due: 5 p.m. ET 1/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2018.
Nathaniel J. Davis, Sr.,
Deputy Secretary.

[FR Doc. 2018-00204 Filed 1-8-18; 8:45 am]

BILLING CODE 6717-01-P